DEPARTMENT OF HEALTH AND HUMAN SERVICES

Centers for Disease Control and Prevention

[60Day-09-09AJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Centers for Public Health Preparedness Program Evaluation Instruments,—New—Coordinating Office for Terrorism Preparedness & Emergency Response (COTPER), Centers for Disease Control and Prevention (CDC).

Background and Brief Description

Under the Authority of Sections 301(a) and 317(k)(2) of Public Health Service Act, the Centers for Disease Control and Prevention is responsible for administering and monitoring the Centers for Public Health Preparedness (CPHP) Program. The purpose of the CPHP Program is to strengthen terrorism and emergency preparedness by linking academic expertise to state and local health agency needs. The program brings together colleges and universities with a common focus on public health preparedness to establish a national network of education and training resources. Of these institutions, 27 are accredited Schools of Public Health funded through a five-year Cooperative Agreement for years 2004-2009. This program addresses the public health goals described in “A National Strategy for Terrorism Preparedness and Response: 2003-2008 Strategic Plan”, specifically Imperative Five, a Competent and Sustainable Workforce. Critical objectives under this Imperative are to: (1) Increase the number and type of professionals that comprise a preparedness and response workforce; (2) deliver certification and competency-based training and education; (3) recruit and retain the highest quality workforce; and (4) evaluate the impact of training to assure learning has occurred.

CDC requests OMB approval for a period of one year to collect information beginning in the summer of 2009. CDC is undertaking a summative evaluation of the CPHP Program encompassing the period of the current Cooperative Agreement. In order to complete this evaluation, CDC is proposing five data collection instruments to gather information describing the program's processes and outcomes. These are: (1) Pre-CPHP Interview Document Collection Protocol; (2) CPHP Interview Instrument; (3) CPHP National Partner Interview Instrument (4) CPHP State and Local Partner/Customer Survey Instrument; and (5) CPHP State and Local Partner/Customer Interview Instrument. Collectively, these instruments are needed in order to receive, process, aggregate, evaluate, and disseminate CPHP program information. The information will be used by CDC to document progress toward meeting established program goals and objectives; to evaluate outcomes generated by the collective work of the 27 Centers; to inform the development of a new public health preparedness education and training cooperative agreement program; and to respond to data inquiries made by CDC and other agencies of the federal government.

The Pre-CPHP Interview Document Collection Protocol will be used by CPHP grantees to guide collection and submission of existing documents. The CPHP National Partner Interview Instrument will be used to guide a telephone interview process with key National Partners familiar with the CPHP program. The categories of questions will be similar to the CPHP Interview Instrument to gather information from the perspective of National Partners. The CPHP State and Local Partner/Customer Survey Instrument will be used to gather information from representatives of organizations that have received training or technical assistance from the CPHP Program. It will be administered electronically with an option for paper copy administration. It is estimated that there will be one request per respondent and a total of 135 respondents with an estimated time for data collection of 30 minutes. The CPHP Partner/Customer Interview Instrument will be used to gather more in-depth information on the same categories of questions from the Survey Instrument. It is estimated that there will be a total of 54 respondents with an estimated time for data collection of 30 minutes.

There are no costs to respondents except their time.

Estimated Annualized Burden Hours
Respondents | Number of respondents | Number of responses per respondent | Average burden per response (in hours) | Total burden (in hours)
Pre-CPHP Interview Document Collection Protocol—CPHP staff | 27 | 1 | 2 | 54
(2) CPHP Interview Instrument—CPHP staff | 54 | 1 | 2 | 108
(3) CPHP National Partner Interview Instrument | 10 | 1 | 2 | 20
(4) CPHP State and Local Partner/Customer Survey Instrument | 135 | 1 | 30/60 | 68
(5) CPHP State and Local Partner/Customer Interview Instrument | 54 | 1 | 30/60 | 27
Total | 277

Dated: January 8, 2009.
Maryam I. Daneshvar,
Acting Reports Clearance Officer, Centers for Disease Control and Prevention.

[FR Doc. E9-889 Filed 1-15-09; 8:45 am]

BILLING CODE 4163-18-P